NATIONAL INSTITUTE FOR LITERACY

Meeting Notices

AGENCY: National Institute for Literacy (NIFL).

ACTION: Notice of meeting.

SUMMARY: This notice sets forth the schedule and proposed agenda of a forthcoming meeting of the National Institute for Literacy Board (Board). This notice also describes the function of the Board. Notice of this meeting is required under Section 10(a)(2) of the Federal Advisory Committee Act. This document is intended to notify the general public of their opportunity to attend the meeting.

DATE AND TIME: May 15, 2000 from 8:30 a.m. to 5 p.m., and may 16, 2000 from 8:30 a.m. to 12 Noon.

ADDRESSES: IBM Executive Conference Center in Palisades, Rout 9W, P.O. Box 1025, Palisades, New York 10965.

FOR FURTHER INFORMATION CONTACT: Shelly Coles, Assistant National Institute for Literacy, 1775 I Street, NW, Suite 730, Washington, DC 2006. Telephone number (202) 233-2027, email scoles@nifl.gov.

SUPPLEMENTARY INFORMATION: The Board is established under the Workforce Investment Act of 1998, Title II of Public Law 105-220, Sec. 242, the National Institute for Literacy. The Board consists of ten individuals appointed by the President with the advice and consent of the Senate. The Board is established to advise and make recommendations to the Interagency Group, composed of the Secretaries of Education, Labor, and Health and Human Services, which administers the National Institute for Literacy (Institute). The Interagency Group considers the Board's recommendations in planning the goals of the Institute and in the implementation of any programs to achieve the goals of the Institute. Specifically, the Board performs the following function (a) Makes recommendations concerning the appointment of the Director and the staff of the Institute; (b) provides independent advice on operation of the Institute; and (c) receives reports from the Interagency Group and Director of the Institute. In addition, the Institute consults with the Board on the award of fellowships. The National Institute for Literacy Advisory Board will be meeting on May 15-16, 2000. The Advisory Board will focus on refinements in the NIFL's three-year program plan; specific activities to be carried out next year to implement the plan; and changes that have occurred, or might occur over the next three to five years that need to be anticipated, and factored into the NIFL's planning and activities. Records are kept of all Board proceedings and are available for public inspection at the National Institute for Literacy, 1775 I Street, NW, Suite 730, Washington, DC 20006, from 8:30 a.m. to 5 p.m.

Dated: April 28, 2000.
Carolyn Staley,
Deputy Director.

[FR Doc. 00-11057 Filed 5-2-00; 8:45 am]

BILLING CODE 6055-01-M